DEPARTMENT OF TRANSPORTATION

Federal Aviation Administration

14 CFR Part 71

[Docket No. FAA-2024-2458; Airspace Docket No. 23-AGL-27]

RIN 2120-AA66

Amendment of VOR Federal Airways V-9, V-78, V-341, and V-430, and Canadian RNAV Route T-765, and Establishment of United States RNAV Route T-490; Northcentral United States

AGENCY: Federal Aviation Administration (FAA), DOT.

ACTION: Notice of proposed rulemaking (NPRM).

SUMMARY: This action proposes to amend Very High Frequency Omnidirectional Range (VOR) Federal Airways V-9, V-78, V-341, and V-430, and Canadian Area Navigation (RNAV) Route T-765; and establish United States (U.S.) RNAV route T-490. The FAA is proposing this action due to the planned decommissioning of the VOR portion of the Iron Mountain, MI (IMT) VOR/Distance Measuring Equipment (VOR/DME) navigational aid (NAVAID). The Iron Mountain VOR is being decommissioned in support of the FAA's VOR Minimum Operational Network (MON) program.

DATES: Comments must be received on or before December 23, 2024.

ADDRESSES: Send comments identified by FAA Docket No. FAA-2024-2458 and Airspace Docket No. 23-AGL-27 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

VOR Federal Airways are published in paragraph 6010(a), U.S. Area Navigation Routes (T-routes) are published in paragraph 6011, and Canadian Area Navigation Routes (T-routes) are published in paragraph 6013 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the Iron Mountain, MI, VOR in April 2025. The Iron Mountain VOR was one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Iron Mountain VOR/DME is planned for decommissioning, the co-located DME portion of the NAVAID is being retained. The DME would continue to provide service supporting current and future NextGen PBN flight procedure requirements.

The Air Traffic Service (ATS) routes affected by the Iron Mountain VOR decommissioning are VOR Federal Airways V-9, V-78, V-341, and V-430. With the planned decommissioning of the Iron Mountain VOR, the remaining ground-based NAVAID coverage in the area is insufficient to enable the continuity of the affected airways. As such, proposed modifications to V-9, V-341, and V-430 would result in the airways being shortened and to V-78 would result in an existing gap in the airway being expanded.

To mitigate the loss of the V-9, V-78, V-341, and V-430 airway segments, pilots operating under instrument flight rules (IFR) could use adjacent VOR Federal Airways V-63, V-133, V-217, V-316, and V-413 to navigate around the affected area. IFR pilots with RNAV-equipped aircraft could navigate using the proposed RNAV route T-490 or the proposed extension of RNAV route T-765. Additionally, IFR pilots could request air traffic control (ATC) radar vectors to fly through or around the affected area. Pilots operating under visual flight rules who elect to navigate via airways could also take advantage of the adjacent VOR Federal airways or the ATC services listed previously.

Additionally, proposed modifications to Canadian RNAV route T-765 within U.S. airspace would mitigate proposed modifications to V-9 due to the planned Iron Mountain VOR decommissioning. The route would be extended southward within U.S. airspace to the Green Bay, WI, VOR/Tactical Air Navigation (VORTAC) NAVAID to address the proposed removal of the affected V-9 airway segment. The extended T-765 would provide pilots with RNAV-equipped aircraft a route alternative through the affected area to the U.S./Canada border and then cross-border connectivity with NAV CANADA's further extension of T-765 within Canadian airspace.

Finally, the proposed establishment of U.S. RNAV route T-490 would mitigate proposed modifications to V-430 and provide positive course guidance for RNAV-equipped aircraft around the Big Bear, MI, Military Operations Area (MOA). The route would be extended southward between the Ironwood, MI, VOR/DME and Escanaba, MI, VOR/DME NAVAIDs.

The Proposal

The FAA is proposing to amend 14 CFR part 71 by amending VOR Federal Airways V-9, V-78, V-341, and V-430, and Canadian RNAV Route T-765; and establishing U.S. RNAV Route T-490. This action is required due to the planned decommissioning of the VOR portion of the Iron Mountain, MI, VOR/DME NAVAID. The proposed ATS route actions are described below.

V-9: V-9 currently extends between the Leeville, LA, VORTAC and the Pontiac, IL, VOR/DME; and between the Janesville, WI, VOR/DME and the Houghton, MI, VOR/DME. The FAA proposes to remove the airway segment between the Green Bay, WI, VORTAC and the Houghton VOR/DME. As amended, the airway would be changed to extend between the Leeville VORTAC and the Pontiac VOR/DME, and between the Janesville VOR/DME and the Green Bay VORTAC. Additional changes to the airway have been proposed in a separate docket action.

V-78: V-78 currently extends between the Gopher, MN, VORTAC and the Escanaba, MI, VOR/DME; and between the Pellston, MI, VORTAC and the Saginaw, MI, VOR/DME. The FAA proposes to remove the airway segment between the Rhineland, WI, VOR/DME and the Escanaba, MI, VOR/DME. As amended, the airway would be changed to extend between the Gopher VORTAC and the Rhineland VOR/DME, and between the Pellston VORTAC and the Saginaw VOR/DME.

V-341: V-341 currently extends between the Cedar Rapids, IA, VOR/DME and the Green Bay, WI, VORTAC; and between the Iron Mountain, MI, VOR/DME and the Houghton, MI, VOR/DME. The FAA proposes to remove the airway segment between the Iron Mountain VOR/DME and the Houghton VOR/DME. As amended, the airway would be changed to extend between the Cedar Rapids VOR/DME and the Green Bay VORTAC.

V-430: V-430 currently extends between the Cut Bank, MT, VOR/DME and the Minot, ND, VOR/DME; and between the Grand Forks, ND, VOR/DME and the Escanaba, MI, VOR/DME. The FAA proposes to remove the airway segment between the Ironwood, MI, VOR/DME and the Escanaba VOR/DME. As amended, the airway would be changed to extend between the Cut Bank VOR/DME and the Minot VOR/DME, and between the Grand Forks VOR/DME and the Ironwood VOR/DME.

T-490: T-490 is a new U.S. RNAV route proposed to be established extending between the Ironwood, MI, VOR/DME and the Escanaba, MI, VOR/DME. The new RNAV route would mitigate the proposed V-430 airway segment removal and provide route guidance for aircraft routed around the Big Bear, MI, MOA.

T-765: T-765 currently extends between the between the Houghton, MI, VOR/DME and the BBLUE, MI, Waypoint (WP) on the U.S./Canada border; between the ASIXX, MN, WP on the U.S./Canada border and the KORTY, MN, WP on the U.S./Canada border; and between the LCROS, MN, WP on the U.S./Canada border and the CALDU, MN, WP on the U.S./Canada border. The FAA proposes to extend the route southward to the Green Bay, WI, VORTAC to serve as a RNAV replacement for the airway segment of V-9 proposed to be removed. As amended, the route would be changed to extend between the Green Bay VORTAC and the BBLUE WP; between the ASIXX WP and the KORTY WP; and between the LCROS WP and the CALDU WP.

The NAVAID radials listed in the VOR Federal airway descriptions in regulatory text of this NPRM are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a) VOR Federal Airways.

* * * * *

V-9 [Amended]

From Leeville, LA; McComb, MS; INT McComb 004° and Magnolia, MS 194° radials; Magnolia; Sidon, MS; Marvell, AR; INT Marvell 326° and Walnut Ridge, AR 187° radials; Walnut Ridge; Farmington, MO; St. Louis, MO; Spinner, IL; to Pontiac, IL. From Janesville, WI; Madison, WI; Oshkosh, WI; to Green Bay, WI.

* * * * *

V-78 [Amended]

From Gopher, MN; INT Gopher 091° and Eau Claire, WI, 290° radials; Eau Claire; to Rhinelander, WI. From Pellston, MI; Alpena, MI; INT Alpena 232° and Saginaw, MI, 353° radials; to Saginaw.

* * * * *

V-341 [Amended]

From Cedar Rapids, IA; Dubuque, IA; Madison, WI; Oshkosh, WI; to Green Bay, WI.

* * * * *

V-430 [Amended]

From Cut Bank, MT; 10 miles, 74 miles 55 MSL, Havre, MT; 14 miles, 100 miles 50 MSL, Glasgow, MT; INT Glasgow 100° and Williston, ND, 263° radials; 22 miles, 33 miles 55 MSL, Williston; to Minot, ND. From Grand Forks, ND; Thief River Falls, MN; INT Thief River Falls 122° and Grand Rapids, MN, 292° radials; Grand Rapids; Duluth, MN; to Ironwood, MI.

* * * * *

Paragraph 6011 United States Area Navigation Routes.

* * * * *

T-490 Ironwood, MI (IWD) to Escanaba, MI (ESC) [New]
Ironwood, MI (IWD) | VOR/DME | (Lat. 46°31′56.12″ N, long. 090°07′33.06″ W)
BBEAR, MI | WP | (Lat. 45°48′57.67″ N, long. 088°06′42.85″ W)
Escanaba, MI | VOR/DME | (Lat. 45°43′21.49″ N, long. 087°05′22.55″ W)

* * * * *

Paragraph 6013 Canadian Area Navigation Routes.

* * * * *

T-765 Green Bay, WI (GRB) to CALDU, MN [Amended]
Green Bay, WI (GRB) | VORTAC | (Lat. 44°33′18.58″ N, long. 088°11′41.49″ W)
BBEAR, MI | WP | (Lat. 45°48′57.67″ N, long. 088°06′42.85″ W)
Houghton, MI (CMX) | VOR/DME | (Lat. 47°10′12.94″ N, long. 088°29′07.41″ W)
BBLUE, MI | WP | (Lat. 48°01′10.44″ N, long. 089°13′39.22″ W)
and
ASIXX, MN | WP | (Lat. 48°30′56.17″ N, long. 092°37′34.98″ W)
International Falls, MN (INL) | VOR/DME | (Lat. 48°33′56.87″ N, long. 093°24′20.44″ W)
KORTY, MN | WP | (Lat. 48°35′20.54″ N, long. 093°27′59.55″ W)
and
LCROS, MN | WP | (Lat. 49°03′44.39″ N, long. 094°44′18.17″ W)
CALDU, MN | WP | (Lat. 49°12′42.53″ N, long. 095°09′11.89″ W)

* * * * *

Issued in Washington, DC, on October 31, 2024.
Brian Eric Konie,
Manager (A), Rules and Regulations Group.

[FR Doc. 2024-25703 Filed 11-5-24; 8:45 am]

BILLING CODE 4910-13-P